DEPARTMENT OF TRANSPORTATION

Research and Special Programs Administration

[Docket No. RSPA-04-18607; Notice 1]

Pipeline Safety: Petition for Waiver; Alyeska Pipeline Service Company

AGENCY: Research and Special Programs Administration (RSPA), DOT.

ACTION: Notice; petition for waiver.

SUMMARY: Alyeska Pipeline Service Company (Alyeska) has petitioned the Research and Special Programs Administration's (RSPA) Office of Pipeline Safety (OPS) for a waiver of the pipeline safety regulation that requires an operator to reduce the pressure of a pipeline to not more than 50 percent of the maximum operating pressure whenever the line pipe is moved.

DATES: Persons interested in submitting written comments on the waiver proposed in this notice must do so by August 23, 2004. Late-filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: James Reynolds by phone at 202-366-2786, by fax at 202-366-4566, by mail at DOT, RSPA, OPS, 400 Seventh Street, SW., Room 2103, Washington, DC 20590, or by e-mail at james.reynolds@rspa.dot.gov.

SUPPLEMENTARY INFORMATION: Alyeska has petitioned RSPA/OPS for a waiver from compliance with the requirements of 49 CFR 195.424(a) for 420 miles of aboveground line pipe in the Trans Alaska Pipeline System (TAPS). Section 195.424(a) does not allow a pipeline operator to move any line pipe unless the pressure in the pipeline section is reduced to not more than 50 percent of the maximum operating pressure (MOP). Alyeska argues that lowering the pressure on the aboveground portion of TAPS is not necessary and is disruptive and burdensome to its pipeline operations. The requested waiver would apply whenever routine maintenance requires that the aboveground line pipe be moved laterally, longitudinally, or vertically to relieve pipe stresses and restore it to its intended position.

TAPS was designed and constructed between 1973 and 1977 to transport oil 800 miles from Prudhoe Bay, Alaska, to Alyeska's marine terminal at Valdez, Alaska. Over half of the TAPS pipeline, 420 miles, was constructed aboveground. Alyeska states that because of TAPS' unique design and construction, the aboveground portions of the pipeline behave in a structurally predictable manner. According to Alyeska, the aboveground structures were designed to accommodate line pipe movement while operating at MOP under a full range of operating and environmental conditions without over-stressing the line pipe. Alyeska notes that the unique design and construction of TAPS allows pipeline movement caused by thermal expansion, seismic or hydraulic events, fault movements, support structure settlement, or frost jacking, as well as complete loss of two adjacent support structures. Moreover, Alyeska further states that TAPS was designed and constructed to anticipate line pipe movements, including routine lifting to replace sliding pads, reposition shoes, and adjust out-of-level crossbeams without reducing the pressure in the pipeline or over-stressing the pipe.

Alyeska describes the TAPS support system in its waiver request. The aboveground portion of TAPS was designed and constructed with two types of supports: intermediate sliding supports and anchor supports. The intermediate sliding supports are spaced every 60 feet on the aboveground portion of the pipeline. Anchor supports are spaced every 600 to 1,800 feet to control line pipe displacement arising from thermal expansion and seismic movement. According to Alyeska, the stresses imposed on the pipeline during operations and maintenance can be accurately predicted based on monitoring data using well-established engineering methods. Other important aspects of the design and construction of the aboveground portion of TAPS are illustrated in Alyeska's waiver request, which is available in the docket.

RSPA/OPS may waive compliance with any part of a pipeline safety regulation if the waiver is not inconsistent with pipeline safety. Alyeska contends that because 49 CFR § 195.424(a) was adopted prior to the construction of TAPS, this regulation was only intended for movement of conventionally constructed, buried line pipe. Alyeska believes that a waiver from § 195.424(a) for the 420 miles of aboveground line pipe in TAPS would not be inconsistent with pipeline safety because the design and construction of TAPS allows for safe movement and adjustment of aboveground line pipe.

Routine maintenance on the aboveground portion of TAPS requires the pipeline to be lifted or moved laterally, longitudinally, or vertically to restore it to its intended position. Alyeska defines routine maintenance to include:

• Out-of-plumb vertical support members (VSM).

• Out-of level crossbeams.

• Tripped anchors.

• Intermediate shoes positioned too close to crossbeam edge.

• Intermediate shoes positioned too close to left or right VSM.

• Damaged Teflon pads.

• Non-uniform support of the pipeline.

Alyeska provided the following justification in support of its waiver request:

• Aboveground portion of TAPS behave differently from conventionally buried pipeline for which the regulations were originally promulgated;

• Maintenance is routinely and regularly required to keep the aboveground portion of the TAPS operating safely;

• Lowering operating pressure while making regular and routine adjustments will be unnecessarily disruptive and burdensome on the TAPS operation;

• Disruptions of TAPS operation could adversely affect the flow of crude oil to U.S. domestic markets, harming the national economy, and threatening national security;

• Established procedures are followed to ensure the safety of the aboveground portion of this pipeline while performing pipeline maintenance; and

• Lowering the pressure of the TAPS aboveground pipeline is not necessary for pipeline safety because the TAPS pipeline is designed to accommodate pipeline movement during maintenance while operating at full pressure.

Alyeska seeks a permanent waiver of compliance from § 195.424(a) for the 420 miles of aboveground portion of TAPS. The waiver will relieve Alyeska of the requirement to reduce the pressure of its pipeline to not more than 50 percent of MOP when making routine adjustments and performing regular maintenance on the aboveground portion of TAPS.

RSPA/OPS requests comments on the requested waiver, including each of Alyeska's justifications. At the conclusion of the comment period, RSPA/OPS will consider Alyeska's application and all comments and publish its decision to grant or deny the waiver in the Federal Register.

Authority: 49 U.S.C. 60118(c) and 49 CFR 1.53.

Issued in Washington, DC on July 16, 2004.
Chris Hoidal,
Acting Deputy Associate Administrator.

[FR Doc. 04-16641 Filed 7-21-04; 8:45 am]

BILLING CODE 4910-60-P